ENVIRONMENTAL PROTECTION AGENCY

[EPA-HQ-OAR-2005-0120, EPA-HQ-OAR-2005-0121, and EPA-HQ-OAR-2004-0060; FRL-9652-9]

Agency Information Collection Activities: Proposed Collections; Request for Comment on Three Proposed Information Collection Requests (ICRs)

AGENCY: Environmental Protection Agency.

ACTION: Notice.

SUMMARY: In compliance with the Paperwork Reduction Act (PRA) (44 U.S.C. 3501 et seq.), this document announces that EPA is planning to submit a request to renew three existing approved Information Collection Requests (ICRs) to the Office of Management and Budget (OMB). These ICRs are scheduled to expire between July 31, 2012 and August 31, 2012. Before submitting the ICRs to OMB for review and approval, EPA is soliciting comments on specific aspects of these proposed information collection requests as described below.

DATES: Comments must be submitted on or before May 29, 2012.

ADDRESSES: Submit your comments, identified by the Docket ID numbers provided for each item in the text, by one of the following methods:

• www.regulations.gov: Follow the on-line instructions for submitting comments.

• Email: a-and-r-Docket@epa.gov.

• Fax: (202) 566-9744.

• Mail: Air Docket, Environmental Protection Agency, Mailcode: 2822T, 1200 Pennsylvania Ave. NW., Washington, DC 20460.

• Hand Delivery: Docket Center, (EPA/DC), EPA West, Room 3334, 1301 Constitution Ave. NW., Washington, DC 20460. Such deliveries are only accepted during the Docket's normal hours of operation, and special arrangements should be made for deliveries of boxed information.

Instructions: Direct your comments to the Docket ID Numbers identified for each item in the text. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Nydia Yanira Reyes-Morales, Environmental Protection Agency, 1200 Pennsylvania Avenue NW., Mail Code 6403J, Washington, DC 20460; telephone number: 202-343-9264; fax number: 202-343-2804; email address: reyes-morales.nydia@epa.gov.

SUPPLEMENTARY INFORMATION:

How can I access the docket and/or submit comments?

EPA has established a public docket for each of the ICRs identified in this document (see the Docket ID numbers for each ICR that are provided in the text), which is available for online viewing at www.regulations.gov, or in person viewing at the Air Docket in the EPA Docket Center (EPA/DC), EPA West, Room 3334, 1301 Constitution Ave. NW., Washington, DC. The EPA/DC Public Reading Room is open from 8 a.m. to 4:30 p.m., Monday through Friday, excluding legal holidays. The telephone number for the Reading Room is 202-566-1744, and the telephone number for the Air Docket is 202-566-1742.

Use www.regulations.gov to obtain a copy of the draft collection of information, submit or view public comments, access the index listing of the contents of the docket, and to access those documents in the public docket that are available electronically. Once in the system, select “search,” then key in the Docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Docket ID No.: EPA-HQ-OAR-2005-0120

Affected entities: Entities potentially affected by this action are large on-highway heavy-duty engine and vehicle manufacturers.

Title: Nonconformance Penalties for Heavy-Duty Engines and Heavy-Duty Vehicles, Including Light-Duty Trucks; Reporting and Recordkeeping Requirements (Renewal).

ICR numbers: EPA ICR No. 1285.08, OMB Control No. 2060-0132.

ICR status: This ICR is currently scheduled to expire on July 31, 2012. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: Nonconformance penalties (NCP) provisions allow a manufacturer to introduce into commerce heavy-duty engines (HDEs) or heavy-duty vehicles (HDVs), including light-duty trucks (LDTs), which fail to conform to certain emission standards, upon payment of a monetary penalty. The information collection activities for the NCP program include the collection of periodic reports and other information which the manufacturer creates and submits to the Diesel Engine Compliance Center (DECC), Compliance Division (CD), Office of Transportation and Air Quality (OTAQ), Office of Air and Radiation (OAR), of the U.S. Environmental Protection Agency (EPA). DECC uses this information to ensure that manufacturers are in compliance with applicable regulations and the Clean Air Act (CAA) and have paid the appropriate penalties. The information submitted in the manufacturers' NCP reports is stored in DECC's computer tracking system to ensure accurate accounting of NCP payments. Since nonconformance penalties and associated Production Compliance Audits (PCA) are an option selected by manufacturers, EPA cannot be certain how many engine families manufacturers will request to be included in the NCP program each year. Likewise, we cannot be certain of the number of PCAs that will be conducted each model year. However, EPA estimates for ICR purposes, that six engine families will be included in the NCP program each model year.

Besides DECC, this information could be used by the Office of Enforcement and Compliance Assurance (OECA) and the Department of Justice for enforcement purposes. Non-Confidential Business Information (CBI) information may be disclosed upon request under the Freedom of Information Act to trade associations, environmental groups, and the public.

Burden Statement: The annual public reporting and recordkeeping burden for this collection of information is estimated to average 589 hours per year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is under review and briefly summarized here:

Estimated total number of potential respondents: 2.

Frequency of response: Quarterly, Annually, On Occasion.

Estimated total average number of responses for each respondent: 26.

Estimated total annual burden hours: 1,178 hours.

Estimated total annual costs: $94,999. This includes an estimated burden cost of $76,819.28 and an estimated cost of $18,180.00 for capital investment or maintenance and operational costs.

Docket ID No.: EPA-HQ-OAR-2005-0121

Affected entities: Entities potentially affected by this action are manufacturers, importers or vendors of on-road heavy duty vehicles, and all categories of nonroad engines and nonroad equipment.

Title: Exclusion Determinations for New Nonroad Spark-ignited, New Nonroad Compression-ignited Engines, and New On-road Heavy Duty Engines (Renewal).

ICR numbers: EPA ICR No. 1852.05, OMB Control No. 2060-0395.

ICR status: This ICR is currently scheduled to expire on July 31, 2012. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: Under the provisions of the Clean Air Act (CAA), the Administrator is required to promulgate regulations to control air pollutant emissions from motor vehicles and nonroad engines, as defined in the CAA. Motor vehicles and non-road engines not meeting the applicable definitions are excluded from compliance with current regulations. A manufacturer may make an exclusion determination by itself; however, manufacturers and importers may routinely request EPA to make such determination to ensure that their determination does not differ from the Agency's. To request an exclusion determination, manufacturers submit a letter with a description of the engine and/or vehicle (engine type, horsepower rating, intended usage, etc.) and sales brochures or pictures, to either the Gasoline Engine Compliance Center (GECC) or the Diesel Engine Compliance Center (DECC). Both Centers are part of Compliance Division (CD), Office of Transportation and Air Quality (OTAQ). GECC and DECC use this information to determine whether the engine or vehicle is excluded from compliance with one or more emission regulations. GECC and DECC then store the data in its internal files, and make it available to the public upon request under the Freedom of Information Act.

Burden Statement: The annual public reporting and recordkeeping burden for this collection of information is estimated to average seven hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 12.

Frequency of response: Annual or On Occasion.

Estimated total average number of responses for each respondent: 3.

Estimated total annual burden hours: 69.

Estimated total annual costs: $5,654. This includes an estimated burden cost of $5,538 and an estimated cost of $116 for capital investment or maintenance and operational costs.

Docket Number: EPA-HQ-OAR-2004-0060

Affected entities: Entities potentially affected by these actions are manufacturers of nonroad spark-ignition engines, including marine spark ignition engines.

Title: Emissions Certification and Compliance Requirements for Nonroad Spark-Ignition Engines.

EPA ICR Number: 1695.10, OMB Control Number 2060-0338.

Abstract: This ICR is currently scheduled to expire on August 31, 2012. This information collection is requested under the authority of Title II of the Clean Air Act (42 U.S.C. 7521 et seq.). Under this Title, EPA is charged with issuing certificates of conformity for those engines which comply with applicable emission standards. Such a certificate must be issued before engines may be legally introduced into commerce. To apply for a certificate of conformity, manufacturers are required to submit descriptions of their planned production line, including detailed descriptions of the emission control system, and test data. This information is organized by “engine family” groups expected to have similar emission characteristics. The emission values achieved during certification testing may also be used in the Averaging, Banking, and Trading (ABT) Program. The program allows manufacturers to bank credits for engine families that emit below the standard and use the credits for families that emit above the standard. They may also trade banked credits with other manufacturers. Participation in the ABT program is voluntary. Different categories of spark-ignition engines may also be required to comply with production-line testing and in-use testing. There are also recordkeeping and labeling requirements. In this notice, former ICR 1722.06 (“Emission Certification and Compliance Requirements for Spark-Ignition Marine Engine, OMB Control Number 2060-0321) and portions of former ICR 2251.03 (Control of Emissions from Nonroad Spark-Ignition Engines and Equipment, OMB Control Number 2060-0603) are being incorporated into ICR 1695.10. This action is undertaken to consolidate certification and compliance information requirements for spark-ignition engines into one ICR for simplification. With this consolidation, we combine all the certification and compliance burden associated with the spark-ignition engine industry.

This information is collected electronically by the Gas Engine Compliance Center (GECC), Compliance Division, Office of Transportation and Air Quality (OTAQ), Office of Air and Radiation of the U.S. Environmental Protection Agency. GECC uses this information to ensure that manufacturers are in compliance with applicable regulations and the Clean Air Act (CAA). It may also be used by the Office of Enforcement and Compliance Assurance (OECA) and the Department of Justice for enforcement purposes. Non-Confidential Business Information (CBI) may be disclosed on OTAQ's Web site or upon request under the Freedom of Information Act to trade associations, environmental groups, and the public.

Burden Statement: The annual public reporting and recordkeeping burden for this collection of information is estimated to average 127 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is under review and briefly summarized here (the following numbers represent consolidated burden for the three combined ICRs):

Estimated total number of potential respondents: 864.

Frequency of response: Annual or On Occasion.

Estimated total average number of responses for each respondent: 3.14.

Estimated total annual burden hours: 345,159.

Estimated total annual costs: $41,396,380. This includes an estimated burden cost of $22,146,947 and an estimated cost of $19,249,433 for capital investment or maintenance and operational costs.

Are there changes in the estimates from the last approval?

To date, there are no changes in the number of hours in the total estimated respondent burden compared with that identified in the ICR currently approved by OMB. However, EPA is still evaluating information that may lead to a change in the estimates.

What is the next step in the process for these ICRs?

EPA will consider the comments received and amend the ICRs as appropriate. The final ICR packages will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: March 16, 2012.
Byron J. Bunker,
Acting Director, Compliance Division, Office of Transportation and Air Quality, Office of Air and Radiation.

[FR Doc. 2012-7478 Filed 3-27-12; 8:45 am]

BILLING CODE 6560-50-P